DEPARTMENT OF DEFENSE

Office of the Secretary

Federal Advisory Committee; Defense Health Board (DHB) Meeting

AGENCY: Department of Defense (DoD).

ACTION: Notice of meeting.

SUMMARY: Pursuant to the Federal Advisory Committee Act of 1972 (5 U.S.C., Appendix as amended), the Sunshine in the Government Act of 1976 (5 U.S.C. 552b, as amended), and 41 CFR 102-3.150, and in accordance with section 10(a)(2) of Public Law, DoD announces that the DoD Task Force on the Prevention of Suicide by Members of the Armed Forces, a subcommittee of the Defense Health Board (DHB), will meet on October 1, 2009.

DATES: The meeting will be held October 1, 2009, from 8 a.m. to 5 p.m. Subject to the availability of space, the meeting is open to the public from 9 a.m. to 12 p.m. and from 1 to 5 p.m. The meeting is closed to the public from 8 to 9 a.m. and from 12 to 1 p.m. for administrative working meetings.

The public is encouraged to register for the meeting.

Special Accommodations:

If special accommodations are required to attend (sign language, wheelchair accessibility) please contact Ms. Lisa Jarrett at (703) 681-8448 ext. 1280 by September 21, 2009.

ADDRESSES: The meeting will be held at the Marriott Hotel North Bethesda, 5701 Marinelli Road, Bethesda, MD 20852.

Registration:

Written statements may be mailed to the address under FOR FURTHER INFORMATION CONTACT, e-mailed to dhb@ha.osd.mil, or faxed to (703) 681-3317.

Additional information, agenda updates, and meeting registration are available online at the Defense Health Board Web site, http://www.ha.osd.mil/dhb.

FOR FURTHER INFORMATION CONTACT: Commander Edmond F. Feeks, Executive Secretary, Defense Health Board, Five Skyline Place, 5111 Leesburg Pike, Suite 810, Falls Church, Virginia 22041-3206, (703) 681-8448, ext. 1228 (phone), (703) 681-3317 (fax), or e-mail: edmond.feeks@tma.osd.mil.

SUPPLEMENTARY INFORMATION:

Agenda:

The DoD Task Force on the Prevention of Suicide by Members of the Armed Forces will meet to receive briefings on current efforts toward the prevention of suicide among Service members of the Armed Services. The Task Force will receive briefings on the Service Data Review from the Army, Navy, Air Force and Marines Corps, as well as briefings from the Walter Reed Army Institute of Research and Armed Forces Institute of Pathology. The Task Force will also conduct a panel discussion with service representatives.

Pursuant to 5 U.S.C. 552b, as amended, and 41 CFR 102-3.140 through 102-3.165 and subject to availability of space, the October 1, 2009, Defense Health Board meeting is open to the public from 9 a.m. to 12 p.m. and from 1 to 5 p.m. As follows, the meeting is closed to the public from 8 to 9 a.m. and from 12 to 1 p.m.

8 a.m.—9 a.m. (Closed Session: Administrative Working Meeting).

9 a.m.—12 p.m (Open Session).

12 p.m.—1 p.m (Closed Session: Administrative Working Meeting).

1 p.m.—5 p.m. (Open Session).

Written Statements:

Anyone wishing to provide input to the Task Force on the Prevention of Suicide by Members of the Armed Forces should submit a written statement in accordance with 41 CFR 102-3.140(C) and section 10(a)(3) of the Federal Advisory Committee Act, and the procedures described in this notice. Written statements should be no longer than two type-written pages and must address the following detail: The issue, discussion, and a recommended course of action. Supporting documentation may also be included as needed to establish the appropriate historical context and to provide any necessary background information.

Individuals desiring to submit a written statement may do so through the Board's Designated Federal Officer (DFO) at any point (see FOR FURTHER INFORMATION CONTACT). If the written statement is not received at least 10 calendar days prior to the meeting, then it may not be provided for consideration by the Task Force on the Prevention of Suicide by Members of the Armed Forces until the next open meeting.

The DFO will review all timely submissions with the Task Force on the Prevention of Suicide by Members of the Armed Forces Chairperson, and ensure they are provided to members of the Task Force before the meeting that is subject to this DFO Federal Officer may choose to invite the submitter of the comments to orally present their issue during an open portion of this meeting or at a future meeting.

The DFO, in consultation with the Task Force on the Prevention of Suicide by Members of the Armed Forces Chairperson, may, if desired, allot a specific amount of time for members of the public to present their issues for review and discussion by the Task Force on the Prevention of Suicide by Members of the Armed Forces.

Dated: September 2, 2009.
Patricia L. Toppings,
OSD Federal Register Liaison Officer, Department of Defense.

[FR Doc. E9-21747 Filed 9-9-09; 8:45 am]

BILLING CODE 5001-06-P